DEPARTMENT OF COMMERCE

National Oceanic and Atmospheric Administration

RIN 0648-XC554

Marine Mammals; File No. 17952

AGENCY: National Marine Fisheries Service (NMFS), National Oceanic and Atmospheric Administration (NOAA), Commerce.

ACTION: Notice; receipt of application for permit amendment.

SUMMARY: Notice is hereby given that Daniel P. Costa, Ph.D., Department of Biology and Institute of Marine Sciences, University of California, Santa Cruz, CA 95064, has applied for an amendment to Scientific Research Permit No. 17952-01.

DATES: Written, telefaxed, or email comments must be received on or before September 16, 2015.

ADDRESSES: The application and related documents are available for review by selecting “Records Open for Public Comment” from the “Features” box on the Applications and Permits for Protected Species home page, https://apps.nmfs.noaa.gov, and then selecting File No. 17952 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 17952 in the subject line of the email comment.

Those individuals requesting a public hearing should submit a written request to the Chief, Permits and Conservation Division at the address listed above. The request should set forth the specific reasons why a hearing on this application would be appropriate.

FOR FURTHER INFORMATION CONTACT: Amy Sloan or Brendan Hurley, (301) 427-8401.

SUPPLEMENTARY INFORMATION: The subject amendment to Permit No. 17952-01 is requested under the authority of the Marine Mammal Protection Act of 1972, as amended (16 U.S.C. 1361 et seq.), and the regulations governing the taking and importing of marine mammals (50 CFR part 216).

Permit No. 17952, issued on June 11, 2013 (78 FR 37796), authorizes the permit holder to conduct long-term research on California sea lions (Zalophus californianus) studying their foraging, diving, energetics, food habits, and at sea distribution. Dr. Costa is authorized to capture, sample, and tag California sea lions and recapture tagged California sea lions throughout their U.S. range (California, Oregon and Washington). Harassment of California sea lions, harbor seals (Phoca vitulina), and northern elephant seals (Mirounga angustirostris) incidental to research activities, unintentional mortalities of California sea lions, and import and export of pinniped samples is authorized. The permit was amended via a minor amendment (Permit No. 17952-01) on October 22, 2014, to include attachment of cameras to instrumentation deployed on sea lions already permitted for capture, sampling, and instrumentation, and to include intubation during gas anesthesia. The permit expires June 7, 2018.

The permit holder is requesting the permit be amended to include authorization to (1) add remote darting as an approved capture method with use of various sedative drugs for adult and juvenile California sea lions, (2) increase incidental harassment takes of non-target California sea lions, (3) include incidental harassment takes for the Eastern stock of Steller sea lions (Eumetopias jubatus), and (4) include takes for capture and disentanglement of California sea lions. The proposed takes are delineated in the amendment application and are requested for the duration of the permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 12, 2015.
Donna S. Wieting,
Director, Office of Protected Resources, National Marine Fisheries Service.

[FR Doc. 2015-20209 Filed 8-14-15; 8:45 am]

BILLING CODE 3510-22-P